DEPARTMENT OF DEFENSE

Office of the Secretary

Renewal of Federal Advisory Committee

AGENCY: Department of Defense.

ACTION: Notice.

SUMMARY: Under the provisions of the Federal Advisory Committee Act of 1972, (5 U.S.C. Appendix, as amended), the Sunshine in the Government Act of 1976 (5 U.S.C. 552b, as amended), and 41 CFR 102-3.65, the Department of Defense gives notice that it will renew the charter for the Board of Visitors National Defense Intelligence College.

The purpose of the Board of Visitors for the National Defense Intelligence College (hereafter referred to as the Board of Visitors) is to provide the Secretary of Defense independent advice on matters relating to the mission of the National Defense Intelligence College. The Director, Defense Intelligence Agency may act upon the Board of Visitor's advice and recommendations

The Board of Visitors shall be comprised of no more than twelve members, and the Department of Defense, to achieve a balanced membership, will include a cross-section of experts and eminent authorities in the fields of national intelligence, defense and academia.

The Secretary of Defense approves the appointment of the members, and those who are not full-time Federal officers or employees are appointed as Special Government Employees under the authority of 5 U.S.C. 3109. With the exception of travel and per diem for official travel, the members shall server without compensation. The Director, Defense Intelligence Agency shall select the committee's chairperson from the Board of Visitors at large.

The Board of Visitors shall be authorized to establish subcommittees, as necessary and consistent with its mission, and these subcommittees or working groups shall operate under the provisions of the Federal Advisory Committee Act of 1972 (5 U.S.C., Appendix, as amended), the Sunshine in the Government Act of 1976 (5 U.S.C. 552b, as amended), and other appropriate Federal regulations.

Such subcommittees or workgroups shall not work independently of the chartered committee, and shall report all their recommendations and advice to the Board of Visitors for full deliberation and discussion. Subcommittees or workgroups have no authority to make decisions on behalf of the chartered committee nor can they report directly to the Department of Defense or any Federal officers or employees who are not members of the Board of Visitors.

SUPPLEMENTARY INFORMATION: The Board of Visitors shall meet at the call of the committee's Designated Federal Officer, in consultation with the Chairperson and the Director, Defense Intelligence Agency. The Designated Federal Officer, pursuant to DoD policy, shall be a full-time or permanent part-time DoD employee, and shall be appointed in accordance with established DoD policies and procedures. The Designated Federal Officer or duly appointed Alternate Designated Federal Officer shall attend all committee meetings and subcommittee meetings.

Pursuant to 41 CFR 102-3.105(j) and 102-3.140, the public or interested organizations may submit written statements to the Board of Visitors National Defense Intelligence College membership about the Panel's mission and functions. Written statements may be submitted at any time or in response to the stated agenda of planned meeting of the Board of Visitors National Defense Intelligence College.

All written statements shall be submitted to the Designated Federal Officer for the Board of Visitors National Defense Intelligence College, and this individual will ensure that the written statements are provided to the membership for their consideration. Contact information for the Board of Visitors National Defense Intelligence College's Designated Federal Officer can be obtained from the GSA's FACA Database— https://www.fido.gov/facadatabase/public.asp.

The Designated Federal Officer, pursuant to 41 CFR 102-3.150, will announce planned meetings of the Board of Visitors National Defense Intelligence College. The Designated Federal Officer, at that time, may provide additional guidance on the submission of written statements that are in response to the stated agenda for the planned meeting in question.

FOR FURTHER INFORMATION CONTACT: Jim Freeman, DoD Committee Management Office, 703-601-2554, extension 128.

Dated: November 30, 2007.
L.M. Bynum,
Alternate OSD Federal Register Liaison Officer, Department of Defense.

[FR Doc. E7-23765 Filed 12-6-07; 8:45 am]

BILLING CODE 5001-06-P